DEPARTMENT OF COMMERCE

National Oceanic and Atmospheric Administration

[RTID 0648-XE722]

Marine Mammals; File No. 28217

AGENCY: National Marine Fisheries Service (NMFS), National Oceanic and Atmospheric Administration (NOAA), Commerce.

ACTION: Notice; receipt of application.

SUMMARY: Notice is hereby given that Douglas Nowacek, Duke University, 135 Duke Marine Lab Rd., Beaufort, NC 28516, has applied in due form for a permit to conduct research on marine mammals, including endangered blue (Balaenoptera musculus), fin (B. physalus), sei (B. borealis) and sperm (Physeter macrocephalus) whales.

DATES: Written comments must be received on or before June 30, 2025.

ADDRESSES: The application and related documents are available for review by selecting “Records Open for Public Comment” from the “Features” box on the Applications and Permits for Protected Species home page, https://apps.nmfs.noaa.gov, and then selecting File No. 28217 from the list of available applications. These documents are also available upon written request via email to NMFS.Pr1Comments@noaa.gov.

Written comments on this application should be submitted via email to NMFS.Pr1Comments@noaa.gov. Please include File No. 28217 in the subject line of the email comment.

Those individuals requesting a public hearing should submit a written request via email to NMFS.Pr1Comments@noaa.gov. The request should set forth the specific reasons why a hearing on this application would be appropriate.

FOR FURTHER INFORMATION CONTACT: Amy Hapeman or Shasta McClenahan, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to study marine mammals in the Northwest Atlantic Ocean to assess their behavior, foraging ecology, body condition, health status, population structure, and response to sounds. Researchers would conduct vessel and ground surveys of pinnipeds for counts, observations, photography, scat collection, and unmanned aircraft operations. Researchers would conduct vessel surveys of cetaceans for observations; passive acoustic recordings; photography; photo-identification; photogrammetry; temporary marking; biological sampling (blow, skin and blubber, and sloughed skin); tagging (suction-cup and dart); active acoustics; unmanned aircraft operations; tracking; and unintentional harassment. Biological samples collected on the high seas would be imported into the United States. Tissue samples may be used for cell line development. See the application's take table for take numbers by species and procedure. The permit is requested for 10 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: May 27, 2025.
Shannon Bettridge,
Chief, Marine Mammal and Sea Turtle Conservation Division, Office of Protected Resources, National Marine Fisheries Service.

[FR Doc. 2025-09803 Filed 5-29-25; 8:45 am]

BILLING CODE 3510-22-P